DEPARTMENT OF COMMERCE

International Trade Administration

Notice of Scope Rulings

AGENCY: Import Administration, International Trade Administration, Department of Commerce.

DATES: Effective Date: February 25, 2011.

SUMMARY: The Department of Commerce (“Department”) hereby publishes a list of scope rulings completed between July 1, 2010, and September 30, 2010. In conjunction with this list, the Department is also publishing a list of requests for scope rulings and anticircumvention determinations pending as of September 30, 2010. We intend to publish future lists after the close of the next calendar quarter.

FOR FURTHER INFORMATION CONTACT: Julia Hancock, AD/CVD Operations, China/NME Group, Import Administration, International Trade Administration, U.S. Department of Commerce, 14th Street and Constitution Avenue, NW., Washington, DC 20230; telephone: 202-482-1394.

SUPPLEMENTARY INFORMATION:

Background

The Department's regulations provide that the Secretary will publish in the Federal Register a list of scope rulings on a quarterly basis. See 19 CFR 351.225(o). Our most recent notification of scope rulings was published on December 20, 2010. See Notice of Scope Rulings, 75 FR 79339 (December 20, 2010). This current notice covers all scope rulings and anticircumvention determinations completed by Import Administration between July 1, 2010, and September 30, 2010, inclusive, and it also lists any scope or anticircumvention inquiries pending as of September 30, 2010. As described below, subsequent lists will follow after the close of each calendar quarter.

Scope Rulings Completed Between July 1, 2010, and September 30, 2010:

People's Republic of China

A-570-803: Heavy Forged Hand Tools from the People's Republic of China. Requestor: Olympia Tools; stubby bar is not within the scope of the antidumping duty order; August 27, 2010.

A-570-827: Cased Pencils from the People's Republic of China. Requestor: Inspired Design LLC; pencils in its Pedestal Pets Sets are within the scope of antidumping duty order, July 9, 2010.

A-570-868: Folding Metal Tables and Chairs from the People's Republic of China. Requestor: Academy Sports & Outdoors; its bistro sets, consisting of two chairs and a table, are not within the scope of the antidumping duty order; July 27, 2010.

A-570-899: Artist Canvas from the People's Republic of China. Requestor: Masterpiece Artist Canvas, Inc.; its scrapbooking canvases are within the scope of the antidumping duty order; July 19, 2010.

A-570-909: Steel Nails from the People's Republic of China. Requestor: Target Corporation; six household toolkits, including brass coated steel nails, taken as a whole, are not within the scope of the antidumping duty order; August 10, 2010.

A-570-909: Steel Nails from the People's Republic of China. Requestor: Itochu Building Products, Inc.; Grip Rite fasteners are within the scope of the antidumping duty order; July 21, 2010.

A-570-932: Steel Threaded Rod from the People's Republic of China. Requestor: Elgin Fastener Group; hex collared stud is not within the scope of the antidumping duty order; August 11, 2010.

A-570-932: Steel Threaded Rod from the People's Republic of China. Requestor: Hubbell Power Systems, Inc.; the Double Arming Bolt is within the scope of the antidumping duty order; September 10, 2010.

Germany

A-428-801: Ball Bearings and Parts from Germany. Requestor: myonic GmbH; its turbocharger spindle units are within the scope of the antidumping duty order; July 14, 2010.

United Kingdom

A-412-801: Ball Bearings and Parts Thereof from the United Kingdom. Requestor: Hawker Pacific Aerospace; its ball assembly for a locking spring is within the scope of the antidumping duty order; July 15, 2010.

Anticircumvention Determinations Completed Between July 1, 2010, and September 30, 2010: None.

Scope Inquiries Terminated Between July 1, 2010, and September 30, 2010:

A-570-806: Silicon Metal from the People's Republic of China. Requestor: Globe Metallurgical Inc.; whether silicon metal exported by Ferro-Alliages et Mineraux Inc. (“Ferro-Alliages”) to the United States from Canada is within the scope of the antidumping duty order; initiated February 10, 2009; preliminary rescission ruling issued August 12, 2010.

A-570-864: Pure Magnesium in Granular Form from the People's Republic of China. Requestor: ESM Group Inc.; whether U.S.-origin ingots atomized in the People's Republic of China are within the scope of the antidumping duty order; initiated April 18, 2007; preliminary ruling issued August 27, 2008, withdrawn by ESM Group Inc. on August 13, 2010.

Anticircumvention Inquiries Terminated Between July 1, 2010, and September 30, 2010:

A-570-928: Uncovered Innerspring Units from the People's Republic of China. Requestor: Leggett & Platt, Incorporated; whether coils (including individual coils, coil strips, and other made-up articles of innerspring units) and border rods from the People's Republic of China, which are assembled post-importation into innerspring units in the United States, are circumventing the antidumping duty order; requested March 15, 2010, withdrawn by Leggett & Platt, Incorporated on September 20, 2010.

Scope Inquiries Pending as of September 30, 2010:

Italy

A-475-801: Ball Bearings and Parts Thereof from Italy. Requestor: Caterpillar, Inc.; whether turntable slewing rings used in hydraulic excavators (part numbers 1855622 and 1885072) manufactured by SKF RIV-SKF Officine di Villar Perosa S.p.A., SKF Industrie S.p.A., OMVP S.p.A., and Somecat S.p.A. (collectively “SKF Italy”) are within the scope of the antidumping duty order; requested July 27, 2010.

People's Republic of China

A-570-504: Petroleum Wax Candles from the People's Republic of China. Requestor: Trade Associates Group, Ltd.; whether its candles (multiple designs) are within the scope of the antidumping duty order; requested June 11, 2009.

A-570-504: Petroleum Wax Candles from the People's Republic of China. Requestor: Sourcing International, LLC; whether its flower candles are within the scope of the antidumping duty order; requested June 24, 2009.

A-570-504: Petroleum Wax Candles from the People's Republic of China. Requestor: Sourcing International; whether its candles (multiple designs) are within the scope of the antidumping duty order; requested July 28, 2009.

A-570-504: Petroleum Wax Candles from the People's Republic of China. Requestor: Sourcing International; whether its floral bouquet candles are within the scope of the antidumping duty order; requested August 25, 2009.

A-570-504: Petroleum Wax Candles from the People's Republic of China. Requestor: Candym Enterprises Ltd.; whether its vegetable candles are within the scope of the antidumping duty order; requested November 9, 2009.

A-570-601: Tapered Roller Bearings from the People's Republic of China. Requestor: Blackstone OTR LLC and OTR Wheel Engineering, Inc.; whether certain wheel hub units are within the scope of the antidumping duty order; requested March 3, 2010.

A-570-601: Tapered Roller Bearings from the People's Republic of China. Requestor: New Trend Engineering Limited; whether certain wheel hub units are within the scope of the antidumping duty order; requested March 5, 2010.

A-570-890: Wooden Bedroom Furniture from the People's Republic of China. Requestor: Target Corporation; whether its kid's accent table is within the scope of the antidumping duty order; requested March 18, 2010; initiated May 3, 2010.

A-570-890: Wooden Bedroom Furniture from the People's Republic of China. Requestor: Legacy Classic Furniture; whether its heritage court bench is within the scope of the antidumping duty order; requested June 16, 2010.

A-570-890: Wooden Bedroom Furniture from the People's Republic of China. Requestor: Delta Enterprise Corporation; whether its crib and changing table combo collection is within the scope of the antidumping duty order; requested September 23, 2010.

A-570-890: Wooden Bedroom Furniture from the People's Republic of China. Requestor: Emerald Home Furnishings; whether its granite and wood vanity is within the scope of the antidumping duty order; initiated August 27, 2010.

A-570-890: Wooden Bedroom Furniture from the People's Republic of China. Requestor: Stork Craft Manufacturing; whether its infant (baby) changing table is within the scope of the antidumping duty order; initiated August 20, 2010.

A-570-891: Hand Trucks from the People's Republic of China. Requestor: Bond Street; whether the slide flat cart is within the scope of the antidumping duty order; requested December 8, 2006.

A-570-909: Certain Steel Nails from the People's Republic of China. Requestor: Mazel & Co., Inc.; whether its roofing nails are within the scope of the antidumping duty order; requested July 28, 2010.

A-570-922/C-570-923: Raw Flexible Magnets from the People's Republic of China. Requestor: InterDesign; whether its raw flexible magnets are within the scope of the antidumping duty and countervailing duty orders; requested March 26, 2010; initiated May 18, 2010.

A-570-922/C-570-923: Raw Flexible Magnets from the People's Republic of China. Requestor: Medical Action Industries, Inc.; whether its raw flexible magnets and a surgical instrument drape are within the scope of the antidumping duty and countervailing duty orders; requested June 14, 2010; initiated September 13, 2010.

A-570-932: Steel Threaded Rod from the People's Republic of China. Requestor: Elgin Fastener Group; whether its cold headed double threaded ended bolt is within the scope of the antidumping duty order; requested November 4, 2009.

A-570-937/C-570-938: Citric Acid and Certain Citrate Salts from the People's Republic of China. Requestor: Global Commodity Group LLC; whether its blends of citric acid and blends of citrate salts are within the scope of the antidumping duty and countervailing duty orders; requested August 9, 2010.

A-570-943: Oil Country Tubular Goods from the People's Republic of China. Requestor: TMK IPSCO; whether all green tubes are within the scope of the antidumping duty order; requested September 30, 2010.

Multiple Countries

A-533-838/C-533-839/A-570-892: Carbazole Violet Pigment 23 from India and the People's Republic of China. Requestor: Nation Ford Chemical Co., and Sun Chemical Corp.; whether finished carbazole violet pigment exported from Japan is within the scope of the antidumping duty and countervailing duty orders; requested February 23, 2010.

Anticircumvention Rulings Pending as of September 30, 2010:

A-570-849: Certain Cut-to-Length Carbon Steel from the People's Republic of China. Requestor: ArcelorMittal USA, Inc.; Nucor Corporation; SSAB N.A.D., Evraz Claymont Steel and Evraz Oregon Steel Mills; whether certain cut-to-length carbon steel plate from the People's Republic of China that contains a small level of boron, involves such a minor alteration to the merchandise that is so insignificant that the plate is circumventing the antidumping duty order; requested February 17, 2010; initiated April 16, 2010.

A-570-894: Certain Tissue Paper Products from the People's Republic of China. Requestor: Seaman Paper Company of Massachusetts, Inc.; whether certain imports of tissue paper from the Socialist Republic of Vietnam are circumventing the antidumping duty order through means of third country assembly or completion; requested February 18, 2010; initiated April 5, 2010.

A-570-918: Steel Wire Garment Hangers from the People's Republic of China. Requestor: M&B Metal Products Inc.; whether certain imports of steel wire garment hangers from the Socialist Republic of Vietnam are circumventing the antidumping duty order through means of third country assembly or completion of merchandise imported from the PRC; requested May 5, 2010; initiated July 22, 2010.

Interested parties are invited to comment on the completeness of this list of pending scope and anticircumvention inquiries. Any comments should be submitted to the Deputy Assistant Secretary for AD/CVD Operations, Import Administration, International Trade Administration, 14th Street and Constitution Avenue, NW., APO/Dockets Unit, Room 1870, Washington, DC 20230.

This notice is published in accordance with 19 CFR 351.225(o).

Dated: January 5, 2011.
Christian Marsh,
Deputy Assistant Secretary for Antidumping and Countervailing Duty Operations.

[FR Doc. 2011-4286 Filed 2-24-11; 8:45 am]

BILLING CODE 3510-DS-P